DEPARTMENT OF TRANSPORTATION

Surface Transportation Board

[Docket No. FD 35395]

Norfolk Southern Railway Company—Trackage Rights Exemption—Illinois Central Railroad Company

Pursuant to a written trackage rights agreement dated August 17, 2010, Illinois Central Railroad Company (IC) has agreed to grant overhead trackage rights to Norfolk Southern Railroad Company (NSR) over approximately 199.1 miles of rail line controlled by IC,¹ between: (1) Milepost 6.2 at Church, Ill., and milepost 70.0 at DuQuoin, Ill.; (2) milepost 71.0 at Eldorado Junction, Ill., and milepost 100.0 at Akin Junction, Ill.;² (3) milepost 62.9 at Akin Junction and milepost 40.7 at North Siding, Ill.; and (4) milepost 40.7 at North Siding and the IC's connection to the Western Tennessee Railroad at milepost 269.4 near Fulton, KY.³

¹ In a supplemental pleading filed October 6, 2010, NSR states that the portion of the involved route is over tracks owned by Paducah & Illinois Railroad Company (P&I) and that NSR's use of that portion of the involved trackage rights is contingent upon NSR obtaining a separate agreement to operate over P&I's trackage. In the event that NSR obtains such an agreement, NSR states that it will file a notice of exemption.

² NSR has existing trackage rights over IC's line between milepost 70.0 at DuQuoin and milepost 71.0 at Eldorado Junction.

³ A redacted, executed trackage rights agreement between IC and NSR was filed with the notice of exemption. Also, a motion for protective order was concurrently filed and will be addressed in a separate decision. On October 7, 2010, an unredacted version of the trackage rights agreement was filed under seal.

The transaction may be consummated on or after October 29, 2010, the effective date of the exemption (30 days after the exemption is filed). The primary purpose of the trackage rights agreement is to enable NSR to route traffic over IC's rail lines for transportation beyond the endpoints of Church and the Western Tennessee Railroad connection.

As a condition to this exemption, any employees affected by the trackage rights will be protected by the conditions imposed in Norfolk and Western Railway—Trackage Rights—Burlington Northern, Inc., 354 I.C.C. 605 (1978), as modified in Mendocino Coast Railway—Lease and Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by October 22, 2010 (at least 7 days before the exemption becomes effective).

An original and 10 copies of all pleadings, referring to Docket No. FD 35395, must be filed with the Surface Transportation Board, 395 E Street, SW., Washington, DC 20423-0001. In addition, a copy of each pleading must be served on Daniel G. Kruger, Attorney, Norfolk Southern Corporation, Three Commercial Place, Norfolk, VA 23510.

Board decisions and notices are available on our Web site at http://www.stb.dot.gov.

Decided: October 12, 2010.
By the Board, Rachel D. Campbell, Director, Office of Proceedings.
Jeffrey Herzig,
Clearance Clerk.

[FR Doc. 2010-26009 Filed 10-14-10; 8:45 am]

BILLING CODE 4915-01-P